DEPARTMENT OF COMMERCE

International Trade Administration

[A-570-967]

Aluminum Extrusions From the People's Republic of China: Final Results of Antidumping Duty Administrative Review; 2012-2013

AGENCY: Enforcement and Compliance, International Trade Administration, Department of Commerce.

SUMMARY: The Department of Commerce (“Department”) is conducting an administrative review of the antidumping duty order on aluminum extrusions from the People's Republic of China (“PRC”). The period of review (“POR”) is May 1, 2012, through April 30, 2013. These final results cover 52 companies for which an administrative review was initiated, and for which this administrative review was not rescinded in the Preliminary Results.¹ For these final results, the Department examined two mandatory respondents and one voluntary respondent for which this review was initiated. The first mandatory respondent is Guangzhou Jangho Curtain Wall System Engineering Co., Ltd. and Jangho Curtain Wall Hong Kong Ltd. (collectively “Jangho”); the second mandatory respondent is a single entity that the Department continues to find is comprised of Guang Ya Aluminum Industrial Co., Ltd. (“Guang Ya”), Foshan Guangcheng Aluminum Co., Ltd. (“Guangcheng”), Kong Ah International Co., Ltd. (“Kong Ah”), and Guang Ya Aluminum Industries (Hong Kong) Ltd. (“Guang Ya HK”) (collectively “Guang Ya Group”), Guangdong Zhongya Aluminum Co., Ltd. (“Zhongya”), Zhongya Shaped Aluminum (HK) Holding Ltd. (“Shaped Aluminum”), and Karlton Aluminum Co., Ltd. (“Karlton”) (collectively “Zhongya”), and Foshan Nanhai Xinya Aluminum & Stainless Steel Product Co., Ltd. (“Xinya”) (collectively “Guang Ya Group/Zhongya/Xinya”).

¹ See Initiation of Antidumping and Countervailing Duty Administrative Reviews and Request for Revocation in Part, 78 FR 38924 (June 28, 2013) (“Initiation Notice”); see also Aluminum Extrusions From the People's Republic of China: Preliminary Results of Antidumping Duty Administrative Review and Rescission, in Part; 2012/2013, 79 FR 36003 (June 25, 2014) (“Preliminary Results”).

The Department finds for these final results that Jangho and the Guang Ya Group/Zhongya/Xinya entity failed to demonstrate that they were eligible for separate rates and thus are part of the PRC-wide entity. For Kromet International, Inc. (“Kromet”), a voluntary respondent in this review, the Department finds that Kromet did not make sales of subject merchandise at less than normal value during the POR.

Furthermore, the Department finds that 19 of the companies under review (including Kromet) have established their eligibility for a separate rate. Additionally, we determine that four companies, Hong Kong Gree Electric Appliances Sales Limited (“Gree”), Jiuyuan Co., Ltd. (“Jiuyuan”), Shenzhen Hudson Technology Development Co., Ltd. (“Shenzhen Hudson”), and Skyline Exhibit Systems (Shanghai) Co., Ltd. (“Skyline”) had no shipments. The Department finds that the remaining companies under review either failed to establish their eligibility for a separate rate or were not responsive, and, therefore, these companies are part of the PRC-wide entity.

DATES: Effective Date: December 31, 2014.

FOR FURTHER INFORMATION CONTACT: James Terpstra or Paul Stolz, AD/CVD Operations, Office III, Enforcement and Compliance, U.S. Department of Commerce, 14th Street and Constitution Avenue NW., Washington, DC 20230; telephone: (202) 482-3965 or (202) 482-4474, respectively.

Background

On June 25, 2014, the Department published the Preliminary Results of this administrative review. At that time, we invited interested parties to comment on the Preliminary Results.² We granted parties an extension of time to submit case and rebuttal briefs.³

² See Preliminary Results, 79 FR at 36006.

³ See “Second Administrative Review of the Antidumping Duty Order on Aluminum Extrusions from the People's Republic of China: Granting an Extension of Time for Parties to Provide Case Briefs and Rebuttal Case Briefs,” dated July 7, 2014 and “Second Administrative Review of the Antidumping Duty Order on Aluminum Extrusions from the People's Republic of China: Granting an Extension of Time for Parties to Provide Rebuttal Briefs,” dated August 12, 2014.

On August 8, 2014 we received case briefs from the Aluminum Extrusions Fair Trade Committee (“Petitioner”); ⁴ Zhongya; Skyline; Jangho; tenKsolar (Shanghai) Co., Ltd. (“tenKsolar”); Permasteelisa South China Factory and Permasteelisa Hong Kong Ltd. (collectively, “Permasteelisa”); Taishan City Kam Kiu Aluminium Extrusion Co. Ltd., and Kam Kiu Aluminium Products Sdn. Bhd. (collectively “Kam Kiu”). On August 20, 2014, we received rebuttal briefs from the Petitioner, Kromet, and Jangho.

⁴ The individual members of the Committee are Aerolite Extrusion Company; Alexandria Extrusion Company; Benada Aluminum of Florida, Inc.; William L. Bonnell Company, Inc.; Frontier Aluminum Corporation; Futural Industries Corporation; Hydro Aluminum North America, Inc.; Kaiser Aluminum Corporation; Profile Extrusion Company; Sapa Extrusions, Inc.; and Western Extrusions Corporation.

On September 5, 2014, the Department extended the deadline for the final results until December 22, 2014.⁵

⁵ See “Aluminum Extrusions from the People's Republic of China: Extension of Deadline for Final Results of Antidumping Duty Administrative Review,” dated September 5, 2014.

Scope of the Order

The merchandise covered by the Order ⁶ is aluminum extrusions which are shapes and forms, produced by an extrusion process, made from aluminum alloys having metallic elements corresponding to the alloy series designations published by The Aluminum Association commencing with the numbers 1, 3, and 6 (or proprietary equivalents or other certifying body equivalents).⁷

⁶ See Aluminum Extrusions from the People's Republic of China: Antidumping Duty Order, 76 FR 30650 (May 26, 2011) (“Order”).

⁷ See Memorandum to Paul Piquado, Assistant Secretary for Enforcement and Compliance, from Christian Marsh, Deputy Assistant Secretary for Antidumping and Countervailing Duty Operations, titled “Issues and Decision Memorandum for the Final Results of Antidumping Duty Administrative Review: Aluminum Extrusions from the People's Republic of China,” which is dated concurrently with and hereby adopted by this notice (“Issues and Decision Memorandum”) for a complete description of the scope of the Order.

Imports of the subject merchandise are provided for under the following categories of the Harmonized Tariff Schedule of the United States (“HTS”): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 7609.00.00.00, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8516.90.50.00, 8516.90.80.50, 8517.70.00.00, 8529.90.73.00, 8529.90.97.60, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTS chapters. In addition, fin evaporator coils may be classifiable under HTS numbers: 8418.99.80.50 and 8418.99.80.60. While HTS subheadings are provided for convenience and customs purposes, the written description of the scope of this Order is dispositive.

Analysis of Comments Received

All issues raised in the case and rebuttal briefs filed by parties in this review are addressed in the Issues and Decision Memorandum, which is incorporated herein by reference. A list of the issues which parties raised, and to which we respond in the Issues and Decision Memorandum, follows as an appendix to this notice. The Issues and Decision Memorandum is a public document and is on file electronically via Enforcement and Compliance's Antidumping and Countervailing Duty Centralized Electronic Service System (“ACCESS”).⁸ ACCESS is available to registered users at http://access.trade.gov, and it is available to all parties in the Central Records Unit, room 7046 of the main Department of Commerce building. In addition, a complete version of the Issues and Decision Memorandum can be accessed directly on the internet at http://www.trade.gov/enforcement/frn/index.html. The signed Issues and Decision Memorandum and the electronic version of the Issues and Decision Memorandum are identical in content.

⁸ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the reference to the Regulations can be found at 79 FR 69046 (November 20, 2014).

Changes Since the Preliminary Results

Based on an analysis of the comments received from interested parties and a review of the record, the Department made the following changes for these final results of review:

• We corrected a calculation error for the final adjusted margin to be applied to the separate rate companies.⁹

⁹ See Attachment to the accompanying Issues and Decision Memorandum.

• We adjusted the PRC-wide entity margin for both export subsidies and domestic subsidy pass-through.¹⁰

¹⁰ Id.; see also Comment 3 of the accompanying Issues and Decision Memorandum.

• We determined that Skyline did not have shipments of subject merchandise during the POR.¹¹

¹¹ See Comment 7 of the accompanying Issues and Decision Memorandum.

• We made a correction to the spelling of Kam Kiu's name.¹²

¹² See Comment 8 of the accompanying Issues and Decision Memorandum.

• For Kromet's preliminary margin calculation, we neglected to convert the variables “Magnesium Ingots” and “Aluminum Titanium Boron Wire” using Thai exchange rates. We corrected this error, and it did not change Kromet's margin.¹³

¹³ See Memorandum to the File titled “Second Administrative Review of the Antidumping Duty Order on Aluminum Extrusions from the People's Republic of China: Analysis of the Final Results Margin Calculation for Kromet International,” dated concurrently with this notice.

Companies Eligible for a Separate Rate

In our Preliminary Results, we determined that 18 companies, plus Kromet, are eligible for a separate rate.¹⁴ We received no information since the issuance of the Preliminary Results that provides a basis for reconsideration of this determination. Therefore, the Department continues to find that these 19 companies are eligible for a separate rate.

¹⁴ See Preliminary Results, 79 FR at 36006.

Rate for Non-Examined Companies Which Are Eligible for a Separate Rate

The Department assigned to non-examined, separate rate companies the weighted-average dumping margin assigned to non-examined, separate rate companies in the final determination of the antidumping investigation and for the final results of the first administrative review of the Order. Neither the Tariff Act of 1930, as amended (“the Act”) nor the Department's regulations address the establishment of the rate applied to individual companies not selected for examination where the Department limited its examination in an administrative review pursuant to section 777A(c)(2) of the Act. The Department's practice in cases involving limited selection based on exporters accounting for the largest volumes of trade has been to look to section 735(c)(5) of the Act for guidance, which provides instructions for calculating the all-others rate in an investigation. Section 735(c)(5)(A) of the Act instructs the Department to avoid calculating an all-others rate using any rates that are zero, de minimis, or based entirely on facts available in investigations. Section 735(c)(5)(B) of the Act provides that, where all rates are zero, de minimis, or based entirely on facts available, the Department may use “any reasonable method” for assigning an all-others rate.

We determine that the application of the rate from the investigation to the non-examined separate rate respondents is consistent with precedent and an appropriate method to determine the separate rate in the instant review. Pursuant to this method, we are assigning the rate of 32.79 percent, the most recent rate (from the less than fair value investigation) calculated for the non-examined separate rate respondents, to the non-examined separate rate respondents in the instant review.¹⁵

¹⁵ See Comment 4 of the accompanying Issues and Decision Memorandum for further discussion.

Adjustment Under Section 777A(f) of the Act

Pursuant to section 777A(f) of the Act, the Department has made an adjustment for countervailable domestic subsidies which have been found to have impacted the U.S. prices. We made no changes (since the Preliminary Results) to the adjustments made for these final results to Kromet's adjustment or the separate rate companies' adjustment (though we corrected a calculation error for the final adjusted margin to include only the passed-through portion of the domestic subsidy for the separate rate companies).¹⁶ Pursuant to section 777A(f) of the Act, for these final results, we also made an adjustment to the PRC-wide entity's rate to account for countervailable domestic subsidies.

¹⁶ See Preliminary Results, 79 FR at 36005-36006 and the Attachment to the accompanying Issues and Decision Memorandum.

PRC-Wide Entity

In the Preliminary Results, the Department determined that the mandatory respondents Jangho and Guang Ya Group/Zhongya/Xinya were not eligible for a separate rate, and, accordingly, were found to be part of the PRC-wide entity. The Department received no information since the issuance of the Preliminary Results that provides a basis for reconsideration of this determination. Therefore, the Department continues to find that Jangho and Guang Ya Group/Zhongya/Xinya ¹⁷ are not eligible for a separate rate and are part of the PRC-wide entity.

¹⁷ See Comments 2, 5, and 6 of the accompanying Issues and Decision Memorandum for further discussion. See also Preliminary Results, 79 FR at 36003-36005 and accompanying Preliminary Decision Memorandum at 14-15.

In the Preliminary Results, the Department also found 21 companies to be part of the PRC-wide entity. For one of those companies, Skyline, the Department received information since the Preliminary Results sufficient to change its determination. For the remaining 20 companies, the Department received no information since the issuance of the Preliminary Results that provides a basis for reconsideration of its determination. Therefore, the Department continues to find that these 20 companies are not eligible for a separate rate and are part of the PRC-wide entity.¹⁸

¹⁸ These companies are: (1) Alnan Aluminium Co., Ltd.; (2) Chiping One Stop Industrial & Trade Co., Ltd.; (3) Cixi Handsome Pool Appliance Co., Ltd.; (4) DongChuan Swimming Pool Equipments Co., Ltd.; (5) Dongguan Golden Tiger Hardware Industrial Co., Ltd.; (6) Foshan Shunde Aoneng Electrical Appliances Co., Ltd.; (7) Guang Dong Xin Wei Aluminum Products Co., Ltd.; (8) Guangdong Whirlpool Electrical Appliances Co., Ltd.; (9) Guangzhou Mingcan Die-Casting Hardware Products, Co. Ltd.; (10) Hanyung Alcobis Co., Ltd.; (11) Henan New Kelong Electrical Appliances Cp., Ltd.; (12) Idex Dinglee Technology (Tianjin Co., Ltd.); (13) Nidec Sankyo (Zhejiang) Corporation; (14) Ningbo Splash Pool Appliance Co., Ltd.; (15) Samuel, Son & Co., Ltd.; (16) Shenyang Yuanda Aluminum Industry Engineering Co., Ltd.; (17) Taizhou Lifeng Manufacturing Corporation; (18) Tiazhou Lifeng Manufacturing Corporation; (19) Wenzhou Shengbo Decoration & Hardware; and (20) Whirlpool (Guangdong).

Adverse Facts Available Rate for the PRC-Wide Entity

For the PRC-wide entity, the Department in the Preliminary Results preliminarily determined that the PRC-wide entity had not acted to the best of its ability in providing necessary information to the Department, and assigned the rate of 33.28 percent, the only rate ever determined for the PRC-wide entity in this proceeding, as adverse facts available pursuant to sections 776(a) and 776(b) of the Act. The rate of 33.28 percent has probative value because it was in the range of the individual dumping margins which we calculated for Kromet. Accordingly, we find that the rate of 33.28 percent is corroborated within the meaning of section 776(c) of the Act, and that it is appropriate to continue to apply this rate of 33.28 percent to the PRC-wide entity.¹⁹

¹⁹ See Comment 3 of the accompanying Issues and Decision Memorandum for further discussion.

Final Results of Review

As a result of this review, we determine that the following weighted-average dumping margins exist for the period May 1, 2012, through April 30, 2013:

Exporter | Weighted- average dumping margin ²⁰ | Margin adjusted for liquidation and cash deposit purposes (%)
Kromet International, Inc |  | 0.00
Allied Maker Limited | 32.79 | 22.28
Changzhou Changzheng Evaporator Co., Ltd | 32.79 | 32.69
Classic & Contemporary Inc | 32.79 | 22.28
Dynabright Int'l Group (HK) Limited | 32.79 | 22.28
Hanyung Metal (Suzhou) Co., Ltd | 32.79 | 22.28
Global Point Technology (Far East) Limited ²¹ | 32.79 | 22.28
Jiangsu Changfa Refrigeration Co., Ltd | 32.79 | 27.22
Jiaxing Jackson Travel Products Co., Ltd | 32.79 | 27.22
Justhere Co., Ltd | 32.79 | 27.22
Kam Kiu Aluminium Products Sdn. Bhd ²² | 32.79 | 22.28
Metaltek Group Co., Ltd | 32.79 | 27.22
Midea International Trading Co., Ltd | 32.79 | 27.22
Permasteelisa Hong Kong Limited ²³ | 32.79 | 22.28
Shanghai Tongtai Precise Aluminum Alloy | 32.79 | 27.22
Sincere Profit Limited | 32.79 | 27.22
tenKsolar (Shanghai) Co., Ltd | 32.79 | 22.28
Tianjin Jinmao Import & Export Corp., Ltd | 32.79 | 27.22
Union Industry (Asia) Co., Ltd | 32.79 | 27.22
PRC-wide Entity | 33.28 | 33.18

Disclosure

We will disclose the calculations performed within five days of the date of publication of this notice to parties in this proceeding in accordance with 19 CFR 351.224(b).

²⁰ As explained in the Preliminary Results, for the Separate Rate Companies (i.e., all companies other than Kromet), the Department intends to adjust the weighted-average dumping margin, for both cash deposit and liquidation purposes. See Attachment to the accompanying Issues and Decision Memorandum for calculations showing the export subsidy, domestic subsidy, pass-through rate, and net adjustments.

²¹ Hoff Associates Mfg Reps Inc. (dba Global Point Technology, Inc.) is the U.S. importer.

²² Taishan City Kam Kiu Aluminium Extrusions Co., Ltd. is the producer.

²³ Permasteelisa South China Factory (Permasteelisa China) is the producer.

Assessment Rates

The Department shall determine, and U.S. Customs and Border Protection (“CBP”) shall assess, antidumping duties on all appropriate entries covered by this review pursuant to section 751(a)(2)(C) of the Act and 19 CFR 351.212(b).²⁴ The Department intends to issue assessment instructions to CBP 15 days after the date of publication of these final results of review.

²⁴ See Antidumping Proceeding: Calculation of the Weighted-Average Dumping Margin and Assessment Rate in Certain Antidumping Duty Proceedings; Final Modification, 77 FR 8103 (February 14, 2012) (“NME Antidumping Proceedings”).

For Kromet, we will instruct CBP to liquidate all appropriate entries without regard to antidumping duties because Kromet's weighted-average dumping margin is zero percent. For the 18 non-examined, separate rate companies, we will instruct CBP to liquidate all appropriate entries at a rate based on 32.79 percent and adjusted for both export and domestic subsidies as described above. For the PRC-wide entity, we will instruct CBP to liquidate all appropriate entries at a rate equal to 33.18 percent, which is adjusted for export and domestic subsidies, as appropriate.²⁵

²⁵ For the PRC-wide entity, which received an AFA rate, as an extension of the adverse inference found necessary pursuant to section 776(b) of the Act, the Department has adjusted the PRC-wide entity's AD assessment rate by the lowest export subsidy rate and the lowest estimated domestic subsidy pass-through determined for any party in the companion CVD proceeding.

The Department recently announced a refinement to its assessment practice in non-market economy (“NME”) cases. Pursuant to this refinement in practice, for entries that were not reported in the U.S. sales databases submitted by companies individually examined during this review, the Department will instruct CBP to liquidate such entries at the NME-wide rate. In addition, if the Department determines that an exporter under review had no shipments of subject merchandise, any suspended entries that entered under that exporter's case number (i.e., at that exporter's rate) will be liquidated at the NME-wide rate. For a full discussion of this practice, see NME Antidumping Proceedings, supra.

Cash Deposit Requirements

The following cash deposit requirements will be effective for all shipments of the subject merchandise entered, or withdrawn from warehouse, for consumption on or after the publication date of the final results of this administrative review, as provided by section 751(a)(2)(C) of the Act: (1) For the exporters listed above, the cash deposit rate will be equal to the weighted-average dumping margin identified in “Final Results of the Review,” and adjusted for applicable export and domestic subsidies; (2) for previously investigated or reviewed PRC and non-PRC exporters that are not under review in this segment of the proceeding but that received a separate rate in a previous segment, the cash deposit rate will continue to be the exporter-specific rate published for the most recently completed segment of this proceeding; (3) for all PRC exporters of subject merchandise which have not been found to be entitled to a separate rate, the cash deposit rate will be the PRC-wide rate of 33.18 percent, which is adjusted for export and domestic subsidies, as appropriate; ²⁶ and (4) for all non-PRC exporters of subject merchandise which have not received their own rate, the cash deposit rate will be the rate applicable to the PRC exporter(s) that supplied that non-PRC exporter. The cash deposit requirements, when imposed, shall remain in effect until further notice.

²⁶ For the PRC-wide entity, which received an AFA rate, as an extension of the adverse inference found necessary pursuant to section 776(b) of the Act, the Department has adjusted the PRC-wide entity's AD cash deposit rate by the lowest export subsidy rate and the lowest estimated domestic subsidy pass-through determined for any party in the companion CVD proceeding. See Attachment to accompanying Issues and Decision memorandum.

Notification to Importers

This notice also serves as a final reminder to importers of their responsibility under 19 CFR 351.402(f)(2) to file a certificate regarding the reimbursement of antidumping and/or countervailing duties prior to liquidation of the relevant entries during this review period. Failure to comply with this requirement could result in the Secretary's presumption that reimbursement of the antidumping and/or countervailing duties occurred and the subsequent assessment of double antidumping duties.

Notification to Interested Parties

In accordance with 19 CFR 351.305(a)(3), this notice serves as a reminder to parties subject to administrative protective order (“APO”) of their responsibility concerning the disposition of proprietary information disclosed under the APO. Timely written notification of the return or destruction of APO materials, or conversion to judicial protective order, is hereby requested. Failure to comply with the regulations and terms of an APO is a sanctionable violation.

These final results of review and notice are published in accordance with sections 751(a)(1) and 777(i)(1) of the Act.

Dated: December 22, 2014.
Paul Piquado,
Assistant Secretary for Enforcement and Compliance.

Appendix—Issues and Decision Memorandum

Summary

Background

Scope of the Order

Discussion of the Issues

Comment 1A: Selection of the Primary Surrogate Country

Comment 1B: Selection of Financial Statements To Derive Financial Ratios

Comment 1C: Selection of Surrogate Value for Primary Aluminum Input

Comment 1D: Selection of Surrogate Value for Labor

Comment 2: Whether To Continue To Collapse Zhongya, Guang Ya, and Xinya

Comment 3: Whether To Recalculate the PRC-Wide Rate

Comment 4: Whether To Recalculate the Separate-Rate for Non-Examined Exporters

Comment 5: Whether the Department Has the Authority To Assess Antidumping Duties on Imports of Merchandise Prior to the Initiation of a Scope Inquiry

Comment 6: Whether the Department Should Make a Scope Ruling on Jangho's Curtain Wall Units and Window Wall Units in This Review

Comment 7: Status of Skyline's Separate Rate

Comment 8: Whether To Correct the Spelling of Company Names in the Final Results and CBP Instructions

Recommendation

Attachment

[FR Doc. 2014-30662 Filed 12-30-14; 8:45 am]

BILLING CODE 3510-DS-P